DEPARTMENT OF ENERGY

Federal Energy Regulatory Commission

[Docket No. GT01-7-000]

Overthrust Pipeline Company; Notice of Tariff Filing

January 17, 2001.

Take notice that on January 9, 2001, Overthrust Pipeline Company (Overthrust) tendered for filing as part of its FERC Gas Tariff, First Revised Volume No. 1, the tariff sheets as listed on Appendix A to the filing, to be effective February 12, 2001.

Overthurst states that due to a change in Overthrust's management personnel, changes were proposed to modify the reference to the person by whom Overthrust's tariff has been issued. In addition, miscellaneous tariff “clean-up” revisions were made.

Overthrust states that a copy of this filing has been served upon its customers, the Public Service Commission of Utah, and the Public Service Commission of Wyoming.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http:­//www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1928 Filed 1-22-01; 8:45 am]

BILLING CODE 6717-01-M